DEPARTMENT OF AGRICULTURE

Grain Inspection, Packers and Stockyards Administration

Designation for the Lewiston, ID Area

AGENCY: Grain Inspection, Packers and Stockyards Administration, USDA.

ACTION: Notice.

SUMMARY: GIPSA is announcing the designation of the Washington Department of Agriculture (Washington) to provide official services under the United States Grain Standards Act, as amended (USGSA).

DATES: Effective Date: March 1, 2011.

ADDRESSES: Karen W. Guagliardo, Branch Chief, Review Branch, Compliance Division, GIPSA, USDA, STOP 3604, Room 1647-S, 1400 Independence Avenue, SW., Washington, DC 20250-3604.

FOR FURTHER INFORMATION CONTACT: Karen W. Guagliardo, 202-720-8262 or Karen.W.Guagliardo@usda.gov.

Read Applications: All applications and comments will be available for public inspection at the office above during regular business hours (7 CFR 1.27(c)).

SUPPLEMENTARY INFORMATION: In the January 4, 2011, Federal Register (76 FR 317), GIPSA requested applications for designation to provide official services in the geographic area previously serviced by Lewiston Grain Inspection Service, Inc. (Lewiston). Applications were due by February 3, 2011.

Washington was the sole applicant for designation to provide official services in this area. As a result, GIPSA did not ask for additional comments.

GIPSA evaluated all available information regarding the designation criteria in section 7(f)(l) of the USGSA (7 U.S.C. 79(f)) and determined that Washington is qualified to provide official services in the geographic area specified in the January 4, 2011, Federal Register for which they applied. This designation action to provide official services in the specified area is effective March 1, 2011 and will terminate on December 31, 2011.

Effective March 1, 2011, Washington's present geographic area is amended to include the following areas in the States of Idaho and Oregon:

• The northern half of the State of Idaho down to the northern boundaries of Adams, Valley, and Lemhi Counties.

• The entire State of Oregon, except those export port locations within the State that are serviced by GIPSA.

Interested persons may obtain official services by contacting this agency at the following telephone number:

Official agency | Headquarters location and telephone | Designation start | Designation end
Washington | Olympia, WA (360) 753-1484 Additional Locations: Colfax, Othello, Pasco, Quincy, Spokane, and Yakima, WA | 3/1/2011 | 12/31/2011

Section 7(f)(1) of the USGSA authorizes GIPSA's Administrator to designate a qualified applicant to provide official services in a specified area after determining that the applicant is better able than any other applicant to provide such official services (7 U.S.C. 79 (f)(1)).

Under section 7(g)(1) of the USGSA, designations of official agencies are effective for no longer than 3 years unless terminated by the Secretary; however, designations may be renewed according to the criteria and procedures prescribed in section 7(f) of the Act.

Authority: 7 U.S.C. 71-87k.

J. Dudley Butler,
Administrator, Grain Inspection, Packers and Stockyards Administration.

[FR Doc. 2011-9940 Filed 4-22-11; 8:45 am]

BILLING CODE 3410-KD-P